DEPARTMENT OF COMMERCE

National Oceanic and Atmospheric Administration

RIN 0648-XA181

New England Fishery Management Council; Public Meeting

AGENCY: National Marine Fisheries Service (NMFS), National Oceanic and Atmospheric Administration (NOAA), Commerce.

ACTION: Notice of a public meeting.

SUMMARY: The New England Fishery Management Council (Council) is scheduling a peer review of work completed by its Habitat Plan Development Team on February 15-17, 2011. The review panel is being convened for the purpose of providing expert technical comments and advice on the use of the Swept Area Seabed Impact model in Council fishery management plans. The model is a geo-referenced analytical tool that is intended to estimate the adverse effects (Z) of fishing on seabed structures by combining fishing effort data, seabed substrate and energy data and gear specific habitat vulnerability parameters. This tool will enable a better understanding of fishing gear impacts on benthic habitats, the spatial distribution of benthic habitat vulnerability to particular fishing gears, and the distribution of adverse effects from fishing activities on benthic habitats. Recommendations from this group will be brought to the full Council for formal consideration.

DATES: This meeting will be held on Tuesday, Wednesday and Thursday, February 15-17, beginning at 10 a.m. on the first day and 8:30 a.m. on the subsequent days.

ADDRESSES: The meeting will be held at the Hotel Providence, 130 Mathewson Street, Providence, RI 02903; telephone: (800) 861-8990; fax: (401) 861-8002.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Tuesday, February 15-17, 2011

Led by a member of the Council's Scientific and Statistical Committee (SSC), the three to four member panel will determine if the Swept Area Seabed Impact model approach is a reasonable way to estimate the magnitude and location of adverse effects of fishing on essential fish habitat (EFH); also, if the approach, including the geo-statistical and practicability analyses, are a reasonable way to develop and analyze spatially-based management alternatives to minimize the adverse effects of fishing on EFH; and finally, whether existing gaps in data and theoretical understanding of habitat-related processes have been identified during model development.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: January 24, 2011.
Tracey L. Thompson,
Acting Director, Office of Sustainable Fisheries, National Marine Fisheries Service.

[FR Doc. 2011-1763 Filed 1-26-11; 8:45 am]

BILLING CODE 3510-22-P